DEPARTMENT OF TRANSPORTATION

Federal Aviation Administration

RTCA Government/Industry Free Flight Steering Committee Meeting

AGENCY: Federal Aviation Administration (FAA), DOT.

ACTION: Notice of RTCA Government/Industry Free Flight Steering Committee meeting.

SUMMARY: The FAA is issuing this notice to advise the public of a meeting of the RTCA Government/Industry Free Flight Steering Committee.

DATES: The meeting will be held August 21, 2002, from 1-3:30 p.m.

ADDRESSES: The meeting will be held at FAA Headquarters, 800 Independence Avenue, SW., Conference Rooms 5 ABC, Washington, DC 20591.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Free Flight Steering Committee meeting. Note: Non-Government attendees to the meeting must go through security and be escorted to and from the conference room. The agenda will include:

• August 21:

• Opening Session (Welcome and Introductory Remarks, Review/Approve Summary of Previous Meeting)

• Free Flight Select Committee Report

• National Airspace System Concept of Operations, Revision 1

• Concept of Equipage/Mandatory vs Voluntary Equipage

• Recommendations

• Federal Aviation Administration Reports

• ADS-B Link Decision and Next Steps

• Operational Evolution Plan

• Closing Session (Other Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 1, 2002.
Janice L. Peters,
FAA Special Assistant, RTCA Advisory Committee.

[FR Doc. 02-20635 Filed 8-13-02; 8:45 am]

BILLING CODE 4910-13-M